DEPARTMENT OF THE INTERIOR

Indian Arts and Crafts Board

Proposed Agency Information Collection To Identify Tribal Non-Member Indian Artisan Certification Programs; Comment Request

AGENCY: Indian Arts and Crafts Board.

ACTION: Notice.

SUMMARY: This notice announces that the Indian Arts and Crafts Board is requesting information from those federally recognized Indian tribes that have established a non-member Indian artisan certification program as described in P.L. 101-644. This request for information from the tribes will be submitted to the Office of Information and Regulatory Affairs, Office of Management and Budget, for review and approval after the public comment period as required by the Paperwork Reduction Act of 1995.

DATES: Submit comments on or before October 1, 2001.

ADDRESSES: Send your written comments to Attention: Indian Arts and Crafts Board, U.S. Department of the Interior, 1849 C Street, NW., MS 4004 MIB, Washington, DC 20240. If you wish to submit comments by facsimile, the number is (202) 208-5196, or you may send them by e-mail to “iacb@os.doi.gov”. Please mention that your comments concern “Non-member Indian Artisan Certification Programs.”

FOR FURTHER INFORMATION CONTACT: Requests for additional information or copies of the proposed information collection instruments should be directed to Meridith Z. Stanton, Director, Indian Arts and Crafts Board, 1849 C Street, NW., MS 4004 MIB, Washington, DC 20240. You may also call (202) 208-3773 (not a toll free call), or send your request by e-mail to “iacb@os.doi.gov”, or by facsimile to (202) 208-5196.

SUPPLEMENTARY INFORMATION:

I. Abstract

The Indian Arts and Crafts Board (Board) is the agency responsible for the enforcement of the Indian Arts and Crafts Act of 1990, P.L. 101-644. The Act is a truth-in-advertising law that prohibits the offer or display for sale, or sale of any art or craft product in a manner that falsely suggests it is Indian produced, an Indian product, or the product of a particular Indian tribe. Under the law, an “Indian” is defined as “any individual who is a member of an Indian tribe, or for the purposes of this section is certified as an Indian artisan by an Indian tribe.” It is voluntary for a tribe to establish a certification program in accordance with 25 CFR Part 309.

As the agency responsible for the enforcement of the Indian Arts and Crafts Act, it is necessary for the Board to know which federally recognized tribes have established a non-member artist certification program in accordance with the Act. This information is important for the effective enforcement of the Act because it will enable the Board to quickly verify whether or not a particular federally recognized tribe has a certification program under the Act, and to make a preliminary determination as to whether an individual is making a truthful claim regarding his or her certification by a particular federally recognized tribe.

Finally, this information will enable the Board to answer general inquiries from the public regarding tribal non-member certification programs.

II. Method of Collection

In order to identify those federally recognized Indian tribes that have established a non-member Indian artisan certification program as set forth in P.L. 101-644, the Indian Arts and Crafts Board is mailing a response form and a self-addressed stamped envelope to federally recognized Indian tribes requesting that they (1) identify whether or not they have established a non-member artist certification program and, (2) if the tribe has established such a program, whether or not the tribe is willing to mail or fax to the Board a copy of the tribal statutory language establishing the certification program, and (3) whether the federally recognized tribe authorizes the Board to distribute its tribal language upon request by other tribes in search of a model for establishing their certification program. Submission of the information and authorization is strictly voluntary on behalf of the tribe.

Information collected | Reason for collection
Name of organization, address, telephone number, and name of contact | To identify the federally recognized Indian tribe responding and to obtain a method and name of contact.
Whether or not the tribe has established a non-member artist certification program | To identify those federally recognized Indian tribes that have established a non-member artist certification program.
Whether or not the tribe is will to send to the Board by mail or fax its non-member artist certification program language | To identify those federally recognized tribes that are willing to submit to the Board a copy of the tribal language establishing a non-member artist certification program.
Whether or not the tribe authorizes the Board to use its non-member artist certification program language as a model for other tribes | To obtain the federally recognized tribe's authorization to use the tribal language establishing a non-member artist certification program as a model for other tribes.

The proposed use of the information: The information collected will be used by the Indian Arts and Crafts Board to determine which federally recognized Indian tribes have established a non-member Indian artisan certification program as contemplated by the Indian Arts and Crafts Act of 1990. This will enable the Indian Arts and Crafts Board to provide accurate responses to inquires from artisans and members of the public seeking this information.

III. Data

(1) Title: Non-member Indian Artisan Certification Program.

OMB Control Number: 1085-xxxx.

Type of Review: New Collection.

Affected Entities: Federally recognized Tribal Governments.

Number of respondents: 580.

Frequency of response: One time data gathering.

(2) Total annual reporting and record keeping burden.

Total reporting per respondent: 10 minutes.

Total annual reporting: 97 hours.

(3) Description of the need for the information and proposed use of the information: The Board is requesting the foregoing information from federally recognized Indian tribes in order to identify those federally recognized tribes that have established a program for certifying non-member Indian artisans as described in P.L. 101-644 and 25 C.F.R. part 309.

IV. Request for Comments

The Department of the Interior invites comments on:

(a) Whether the collection of information is necessary for the proper performance of the functions of the agency, including whether the information will have practical utility;

(b) The accuracy of the agency's estimate of the burden of the collection and validity of the methodology and assumptions used;

(c) Ways to enhance the quality, utility, and clarity of the information to be collected; and

(d) Ways to minimize the burden of the collection of information on those who are to respond, including through the use of appropriate automated, electronic, mechanical, or other collection techniques or other forms of information technology. Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments will be available for public inspection in Room 4004 of the Main Interior Building, 1849 C Street, N.W., Washington, D.C. from 9:00 a.m. until 3:00 p.m., Monday through Friday, excluding legal holidays. A valid picture identification is required for entry into the Department of the Interior. The comments, names and addresses of commenters will be available for public view during regular business hours. If you wish us to withhold your personal information, you must state what personal information you want us to withhold prominently at the beginning of your comment. We will honor your request to the extent allowable by law.

An agency may not conduct or sponsor, and a person is not required to respond, to a collection of information unless it displays a currently valid Office of Management and Budget control number.

Dated: July 27, 2001.
Meridith Z. Stanton,
Director, Indian Arts and Crafts Board.

[FR Doc. 01-19305 Filed 8-1-01; 8:45 am]

BILLING CODE 4310-RK-P